DEPARTMENT OF TRANSPORTATION

National Highway Traffic Safety Administration

Announcing the Seventeenth Public Meeting of the Crash Injury Research and Engineering Network (CIREN)

AGENCY: National Highway Traffic Safety Administration (NHTSA), DOT.

ACTION: Meeting announcement.

SUMMARY: This notice announces the Seventeenth Public Meeting of members of the Crash Injury Research and Engineering Network. CIREN is a collaborative effort to conduct research on crashes and injuries at eight Level 1 Trauma Centers across the United States linked by a computer network. Researchers can review data and share expertise, which may lead to a better understanding of crash injury mechanisms and the design of safer vehicles. Seven presentations on current research based on CIREN cases will be presented. The agenda will be posted to the CIREN Web site that can be accessed by going to the NHTSA homepage http://www.nhtsa.dot.gov/, click on Vehicle Safety Research on the right side of the top toolbar, then click on Crash Injury Research and Engineering Network (CIREN) in the box on the left. The agenda will be posted two weeks prior to the meeting.

DATES: Date and Time: The meeting is scheduled from 8:30 a.m. to 4 p.m. on Tuesday, March 25, 2008.

ADDRESSES: The meeting will be held at: United States Department of Transportation, 1200 New Jersey Avenue, SE., Oklahoma Conference Rooms A, B, C, Washington, DC 20590.

To Register for this Event: If you do not have a Federal Government identification card, it is suggested that you notify us in advance in order to put your name on the security list. This will expedite your admission to the building. You may still attend the public hearing but there could be a delay in granting you access. Please e-mail your name, affiliation, phone number and e-mail address to Tasha.Allen@dot.gov by Thursday, March 20, 2008, in order to get on the pre-registration list.

For General Information: Mark Scarboro (202) 366-5078, Cathy McCullough (202) 366-4734 or Rodney Rudd (202) 366-5932.

SUPPLEMENTARY INFORMATION: CIREN cases may be viewed from the NHTSA/CIREN Web site at the address provided above. NHTSA has held three Annual Conferences where CIREN research results were presented. Further information about the three previous CIREN conferences is also available through the NHTSA Web site. NHTSA has held CIREN public meetings on a regular basis since 2000. Presentations from these meetings are available through the NHTSA Web site. NHTSA plans to continue holding CIREN meetings on a regular basis to disseminate CIREN information to interested parties. This is the Seventeenth such meeting. The CIREN Centers will be presenting papers on pediatric injuries; obesity and pelvic fractures; elderly and thoracic injuries; a comparison of CIREN crashes to crash tests; identifying changing injury patterns; evaluation and outcome of spinal cord injuries; and a new methodology of identifying frontal offset crashes.

Should it be necessary to cancel the meeting due to inclement weather or to any other emergencies, a decision to cancel will be made as soon as possible and posted immediately on CIREN's Web site as indicated above. If you do not have access to the Web site, you may call or e-mail the contacts listed in this announcement and leave your telephone number or e-mail address. You will be contacted only if the meeting is postponed or canceled.

Issued on: February 15, 2008.
Joseph N. Kanianthra,
Associate Administrator for Vehicle Safety Research.

[FR Doc. E8-3314 Filed 2-21-08; 8:45 am]

BILLING CODE 4910-59-P